GENERAL SERVICES ADMINISTRATION

Public Buildings Service; Availability of Draft Environmental Impact Statement: United States Mission to the United Nations

Pursuant to Section 102(2)(C) of the National Environmental Policy Act (NEPA) of 1969, as amended, as implemented by the Council on Environmental Quality (40 CFR parts 1500-1508), the General Services Administration (GSA) has filed with the U.S. Environmental Protection Agency and made available to other government agencies and interested private parties, the Draft Environmental Impact Statement (DEIS) for the demolition of the Federal building currently housing the United States Mission to the United Nations (USUN) and the subsequent construction of a new facility on the same site.

The DEIS is on file at GSA offices in Manhattan. Copies of the DEIS Executive Summary or additional information may be obtained from: General Services Administration, Public Buildings Service—2PT, 26 Federal Plaza, Room 1609, New York, New York, 10278, ATTN: Peter Sneed.

Written comments regarding the DEIS may be submitted until Friday July 13th, 2001 and should be addressed to General Services Administration in care of the above noted individual. A public hearing is scheduled for Wednesday June 13th, 2001, at the New York University Medical College Classroom A, 550 First Avenue (between 31st and 32nd Streets), New York, New York at 7 PM.

Dated: May 14, 2001.
Steve Ruggiero,
Acting Regional Administrator (2A).

[FR Doc. 01-13587 Filed 5-30-01; 8:45 am]

BILLING CODE 6820-23-M